DEPARTMENT OF HOMELAND SECURITY

Coast Guard

33 CFR Part 117

[Docket No. USCG-2017-1026]

Drawbridge Operation Regulation; Newark Bay, Newark, NJ

AGENCY: Coast Guard, DHS.

ACTION: Notice of deviation from drawbridge regulations.

SUMMARY: The Coast Guard has issued a temporary deviation from the operating schedule that governs the Lehigh Valley Railroad Bridge across the Newark Bay, mile 4.3, at Newark, New Jersey. The deviation is necessary to test a change to the drawbridge operation schedule to determine whether a permanent change to the schedule is needed. This deviation allows the Lehigh Valley RR Bridge to operate under an alternate schedule for ninety (90) days to alleviate high volume of rail service across the Lehigh Valley RR Bridge and to better accommodate vessel traffic.

DATES: This deviation is effective from 12:01 a.m. on January 1, 2018 to 11:59 p.m. on March 31, 2018.

Comments and related material must reach by the Coast Guard on or before March 31, 2018.

ADDRESSES: You may submit comments identified by docket number USCG-2017-1026 using Federal eRulemaking Portal at http://www.regulations.gov.

See the “Public Participation and Request for Comments” portion of the SUPPLEMENTARY INFORMATION section below for instructions on submitting comments.

FOR FURTHER INFORMATION CONTACT: If you have questions on this temporary deviation, call or email Judy K. Leung-Yee, Project Officer, First Coast Guard District; telephone 212-514-4336, email Judy.K.Leung-Yee@uscg.mil.

SUPPLEMENTARY INFORMATION:

I. Background, Purpose and Legal Basis

The Lehigh Valley Railroad Bridge across the Newark Bay, mile 4.3, at Newark, New Jersey is a lift bridge with a vertical clearance of 35 feet at mean high water and 39 feet at mean low water in the closed position. The existing drawbridge operating regulations are listed at 33 CFR 117.5 and 33 CFR 117.735.

The owner of the bridge, Consolidated Rail Corporation, requested a change to the Drawbridge Operation Regulations because the volume of train traffic and maneuvering of train movements from the adjacent rail yard across the bridge cause significant delays to marine traffic.

The waterway users are seasonal recreational vessels and commercial vessels of various sizes.

The Coast Guard is publishing this temporary deviation to test the proposed regulation change to determine whether a permanent change to the schedule is necessary to better balance the needs of marine and rail traffic.

Under this deviation, in effect from 12:01 a.m. on January 1, 2018 to 11:59 p.m. on March 31, 2018, the Lehigh Valley Railroad Bridge will open on signal if at least one hour advance notice is given.

Vessels able to pass through the bridge in the closed position may do so at anytime. There are no alternate routes. The bridge will be able to open for emergencies.

The Coast Guard contacted the waterway users regarding this proposed temporary deviation to test a proposed change to the Drawbridge Operation Regulations and no objections were received. The Coast Guard will also inform the users of the waterways through our Local and Broadcast Notices to Mariners and other appropriate local media of the change in operating schedule for the bridge so that vessel operators may arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicating the specific section of this document to which each comment applies, and provide reason for each suggestion or recommendation.

We encourage you to submit comments through the Federal eRulemaking Portal at http://www.regulations.gov, contact the person in the FOR FURTHER INFORMATION CONTACT section of this document for alternate instructions.

We accept anonymous comments. All comments received will be posted without change to http://www.regulations.gov and will include any person information you have provided. For more about privacy and the docket, visit http://www.regulations.gov/privacynotice.

Documents mentioned in this notice as being available in this docket and all public comments, will be in our online docket at http://www.regulations.gov and can be viewed by following that website's instructions. Additionally, if you go to the online docket and sign up for email alerts, you will be notified when comments are posted or a final rule is published.

Dated: December 14, 2017.
Christopher J. Bisignano,
Supervisory Bridge Management Specialist, First Coast Guard District.

[FR Doc. 2017-27298 Filed 12-18-17; 8:45 am]

BILLING CODE 9110-04-P